DEPARTMENT OF JUSTICE

Notice of Lodging of Consent Decree Pursuant to CERCLA

Notice is hereby given that on November 4, 2002, the United States lodged a proposed Consent Decree between the United States, the State of Arkansas and Oakley-Keesee Ford, Inc. (“Oakley-Keesee”) with the United States District Court for the Eastern District of Arkansas in United States et al. v. Oakley-Keesee Ford, Nos. 3:98CV00362, 3:98CV00363, consolidated with Signature Comb, Inc. et al. v. Oakley-Keesee Ford, No. 3:02CV00125 (SMR).

The proposed Consent Decree resolves the claims of the United States and the State of Arkansas against Oakley-Keesee under sections 106(b) and 107(a) of the Comprehensive Environmental Response, Compensation, and Liability Act, (“CERCLA”), 42 U.S.C. 9606, 9607, regarding the Gurley Pit and South 8th Street Superfund Sites located in Crittenden County, Arkansas. Under the proposed decree, Oakley-Keesee has agreed to pay the plaintiffs $310,000 within 30 days of the effective date of the Consent Decree as follows: (1) $200,000 will be paid to the Superfund in partial reimbursement of the United States' past and future response costs at the Sites; (2) $100,000 will be paid to the Superfund in penalties for the defendant's failure to comply with the Unilateral Administrative Order to perform the remedial action at the South 8th Street Site; and (3) $10,000 will be paid to the State in partial reimbursement of State's past and future response costs at the Sites.

The Department of Justice will receive for a period of thirty (30) days from the date of this publication comments relating to the proposed Consent Decree. Comments should be addressed to the Assistant Attorney General, Environment and Natural Resources Division, United States Department of Justice, P.O. Box 7611, Ben Franklin Station, Washington, DC 20044-7611, and should refer to United States et al. v. Oakley-Keesee Ford, DJ No. 90-11-2-196/2.

The proposed Consent Decree may be examined at the Office of the United States Attorney for the Eastern District of Arkansas, 425 West Capital, Suite 500, Little Rock, Arkansas 72201; and at the Region VI Office of the United States Environmental Protection Agency, 1445 Ross Avenue, Dallas, Texas 75202. A copy of the proposed Consent Decree may be obtained by mail from the Department of Justice Consent Decree Library, P.O. Box 7611, Washington, DC 20044-7611. In requesting a copy, please enclose a check for reproduction costs (at 25 cents per page) in the amount of $7.50, payable to the U.S. Treasury.

Thomas A. Mariani, Jr.,
Assistant Chief, Environmental Enforcement Section, Environment and Natural Resources Division.

[FR Doc. 02-28951 Filed 11-14-02; 8:45 am]

BILLING CODE 4410-15-M